DEPARTMENT OF AGRICULTURE

Forest Service

Information Collection: Good Neighbor Agreement With State Cooperators

AGENCY: Forest Service, USDA.

ACTION: Notice; request for comment.

SUMMARY: The Forest Service is seeking comments from all interested individuals and organizations on the new information collection, Good Neighbor Agreements with State Cooperators.

DATES: Comments must be received in writing on or before February 9, 2015 to be assured of consideration. Comments received after that date will be considered to the extent practicable.

ADDRESSES: Comments concerning this notice should be addressed to Jake Donnay, Legislative Affairs, USDA Forest Service, 1400 Independence Ave. SW., Mailstop 1130, Washington, DC 20250-1130. Comments also may be submitted via facsimile to 202-205-1225 or by email to: jacobsdonnay@fs.fed.us.

The public may inspect comments received at U.S. Department of Agriculture, Forest Service, 201 14th Street SW., 4th floor, 4CE, Washington DC, during normal business hours. Visitors are encouraged to call ahead to 202-205-1637 to facilitate entry. The public may request an electronic copy of the draft supporting statement and/or any comments received be sent via return email. Requests should be emailed to jacobsdonnay@fs.fed.us.

FOR FURTHER INFORMATION CONTACT: Jake Donnay, Legislative Affairs at USDA Forest Service, 202-205-1617. Individuals who use telecommunication devices for the deaf (TDD) may call the Federal Information Relay Service (FIRS) at 1-800-877-8339 twenty-four hours a day, every day of the year, including holidays.

SUPPLEMENTARY INFORMATION: In accordance with the Paperwork Reduction Act of 1995, Forest Service will submit a new information collection to the Office of Management and Budget.

Title: Good Neighbor Agreements with State Cooperators.

OMB Number: 0596—NEW.

Type of Request: New.

Abstract: In order to perform specific activities in cooperation with State partners, Congress passed two Good Neighbor Authorities. The Farm Bill version of the Good Neighbor Authority, Agricultural Act of 2014, Public Law 113-79, section 8206, is a permanent authority that authorizes and encourages the Forest Service to enter into Good Neighbor Agreements with States and the Commonwealth of Puerto Rico to carry out authorized forest, rangeland, and watershed restoration services on and off National Forest System lands.

The Appropriations Act version of the Good Neighbor Authority, Omnibus Appropriations Act of 2014, Public Law 113-76, section 417, is an amendment to the original Colorado version of the Good Neighbor Authority and is set to expire on September 30, 2018. This version of the authority authorizes and encourages the Forest Service to enter into Good Neighbor agreements with State Forestry Agencies to perform watershed restoration and protective services when similar and complementary projects are being performed on adjacent State or private lands.

Good Neighbor Agreements, as defined and authorized by statute, are considered cooperative agreements which permit the Forest Service to work collaboratively with willing State agencies resulting in outcomes that benefit the Federal Government and its State partners. The agreement templates incorporated in this new information request contain partnership elements allowing State cooperators to bring matching contributions to projects and to perform work collaboratively with the Forest Service. The Forest Service will maintain its land management responsibilities for all projects that take place on National Forest System lands. The Forest Service also incorporates applicable Federal financial assistance regulations, currently located in Title 2, Code of Federal Regulations, Part 200, in all Good Neighbor Agreements which provide a regulatory framework for authorized activities performed under the cited authority.

To further reduce the burden on State cooperators, standard Federal financial assistance forms and certifications (for example, SF 424, SF 424B, and SF 425) are not required for Good Neighbor Agreements. Required information will be collected in the proposed Good Neighbor Agreement templates, financial plan, statement of work, and standard supporting documentation for the activity. The information that will be collected is similar to information collected through existing approved agreement templates and financial plans.

To negotiate, develop, and administer Good Neighbor Agreements, the Forest Service collects information from State cooperators from the pre-agreement to the closeout stage via telephone calls, emails, postal mail, and person-to-person meetings. There are multiple means for State respondents to communicate responses including forms, optional forms, non-forms, electronic documents, face-to-face, telephone, and email. The scope of information collected includes the project type, project scope, financial plan, statement of work, and cooperator's business information. Without the collected information, the Forest Service would not be able to create, develop, and administer Good Neighbor Agreements. The Agency would be unable to develop or monitor projects, make payments, or identify financial and accounting errors.

This is a new information collection request. Upon OMB approval of this information collection request, the burden associated with this request will be incorporated in the renewal of OMB control number 0596-0217. Good Neighbor Agreement instruments and associated administrative forms can be viewed at www.fs.fed.us.gov/farmbill/gna.shtml.

Estimate of Annual Burden: 1 to 4 hours annually per State.

Type of Respondents: States and the Commonwealth of Puerto Rico.

Estimated Annual Number of Respondents: 51.

Estimated Annual Number of Responses per Respondent: 1 to 4.

Estimated Total Annual Burden on Respondents: 200 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: December 3, 2014.
Brian Ferebee,
Acting Associate Deputy Chief, National Forest System.

[FR Doc. 2014-28746 Filed 12-8-14; 8:45 am]

BILLING CODE 3411-15-P